DEPARTMENT OF THE INTERIOR

Fish and Wildlife Service

[FWS-R1-ES-2013-N179; FXES11130100000D2-134-FF01E00000]

Experimental Removal of Barred Owls To Benefit Threatened Northern Spotted Owls; Record of Decision for Final Environmental Impact Statement

AGENCY: Fish and Wildlife Service, Interior.

ACTION: Notice of availability.

SUMMARY: We, the U.S. Fish and Wildlife Service, announce the availability of the record of decision (ROD) for the final environmental impact statement (Final EIS) for experimental removal of barred owls to benefit threatened northern spotted owls. We completed a thorough analysis of the environmental, social, and economic considerations and presented it in our Final EIS, which we released to the public on July 24, 2013.

DATES: The Regional Director, Pacific Region, U.S. Fish and Wildlife Service, signed the ROD on September 10, 2013.

ADDRESSES: You may view or obtain copies of the Final EIS and ROD by any of the following methods:

• Agency Web site: Download a copy of the document at http://www.fws.gov/oregonfwo.

• Telephone: Call and leave a message requesting the Final EIS or Record of Decision hard copy or CD, at 503-231-6901.

• In-Person Viewing or Pickup: Call the U.S. Fish and Wildlife Service, Oregon Fish and Wildlife Office, at 503-231-6179 to make an appointment to review or pick up a copy of the Final EIS and ROD during regular business hours at the Oregon Fish and Wildlife Office, 2600 SE 98th Ave., Suite 100, Portland, OR 97266.

• U.S. Mail: Paul Henson, State Supervisor, U.S. Fish and Wildlife Service, Oregon Fish and Wildlife Office, 2600 SE. 98th Ave., Suite 100, Portland, OR 97266.

FOR FURTHER INFORMATION CONTACT: Paul Henson, State Supervisor, Oregon Fish and Wildlife Office, at 503-231-6179. If you use a telecommunications device for the deaf, please call the Federal Information Relay Service at 800-877-8339.

SUPPLEMENTARY INFORMATION:

Introduction

We, the U.S. Fish and Wildlife Service (Service), announce the availability of the ROD, which we developed in compliance with the agency decision-making requirements of the National Environmental Policy Act of 1969, as amended (42 U.S.C. 4321 et seq.; NEPA) and its implementing regulations at 40 CFR 1506.6. We completed a thorough analysis of impacts on the human environment in the Final EIS for experimental removal of barred owls to benefit threatened northern spotted owls. The Final EIS evaluates the impacts of eight action alternatives and a no-action alternative related to: (1) Federal involvement in barred owl removal experiments, and (2) the possible issuance of a scientific collecting permit under the Migratory Bird Treaty Act (16 U.S.C. 703-712; MBTA) for lethal and nonlethal take of barred owls. The ROD documents the rationale for our decision.

Based on our review of the alternatives and their environmental consequences as described in our Final EIS, we selected a Preferred Alternative based on a combination of the features of Alternatives 2 and 3. The Preferred Alternative consists of a demography study conducted on four study areas. The study would be conducted in western Washington, western Oregon, and northwestern California. The action alternatives vary by the number and location of study areas, the type of experimental design, duration of the study, and the method of barred owl removal.

Background

The Service listed the northern spotted owl (Strix occidentalis caurina) as a threatened species under the Endangered Species Act (16 U.S.C. 1531 et seq.; Act) in 1990, based primarily on habitat loss and degradation (55 FR 26114). As a result, conservation efforts for the northern spotted owl have been largely focused on habitat protection. While our listing rule noted that the long-term impact of barred owls (Strix varia) on the spotted owl was of considerable concern, the scope and severity of this threat was largely unknown at that time (55 FR 26114, p. 26190). Competition from barred owls is identified as one of the main threats to the northern spotted owl in the 2011 Revised Northern Spotted Owl Recovery Plan (Recovery Plan) (USFWS 2011, p. III-62). The Recovery Plan summarized information available since our listing rule and found that competition from barred owls now poses a significant and immediate threat to the northern spotted owl throughout its range (USFWS 2011, pp. B-10 through B-12). To address this threat, the Recovery Plan recommends designing and implementing large-scale controlled experiments to assess the effects of barred owl removal on spotted owl site occupancy, reproduction, and survival (USFWS 2011, p. III-65).

Historically, the barred owl did not occur in the Pacific Northwest. In the past century, barred owls have expanded their range westward, reaching the range of the northern spotted owl in British Columbia by about 1959. Barred owl populations continue to expand southward within the range of the northern spotted owl, the population of barred owls behind the expansion-front continues to increase, and barred owls now outnumber spotted owls in many portions of the northern spotted owl's range (Pearson and Livezey 2003, p. 272).

There is strong evidence to indicate that barred owls are negatively affecting northern spotted owl populations. Barred owls displace spotted owls from high-quality habitat (Kelley et al. 2003, p. 51; Pearson and Livezey 2003, p. 274; Courtney et al., pp. 7-27 through 7-31; Gremel 2005, pp. 9, 11, 17; Hamer et al. 2007, p. 764; Dugger et al. 2011, pp. 2464-1466), reducing their survival and reproduction (Olson et al. 2004, p. 1048; Anthony et al. 2006, p. 32; Forsman et al. 2011, pp. 41-43, 69-70). In addition, barred owls may physically attack spotted owls (Gutierrez et al. 2007, p. 187). These effects may help explain declines in northern spotted owl territory occupancy associated with barred owls in the Northwest, and reduced northern spotted owl survivorship and sharp population declines in Washington (e.g., in northern Washington, spotted owl populations declined by as much as 55 percent between 1996 and 2006) (Anthony et al. 2006, pp. 21, 30, 32; Forsman et al. 2011, pp. 43-47, 65-66)). Without management intervention, it is reasonable to expect that competition from barred owls may cause extirpation of the northern spotted owl from all or a substantial portion of its historical range, reducing its potential for survival and recovery.

Public Involvement

On December 10, 2009, the Service published a notice of intent to prepare an environmental impact statement related to experimental removal of barred owls for the conservation benefit of threatened northern spotted owls (notice of intent) in the Federal Register (74 FR 65546), to solicit participation of: Federal, State, and local agencies; Tribes; and the public to determine the scope of the EIS and provide input on issues associated with the proposed experiment. In addition to the publication of the notice of intent, the scoping process included informal stakeholder and agency consultations, and electronic or mailed notification to over 1,000 interested parties. Public scoping lasted until January 11, 2010. A scoping report is included in Appendix B of the Final EIS.

In accordance with the NEPA, the Draft EIS was circulated for public review and comment. The public review period was initiated with the publication of the notice of availability in the Federal Register on March 8, 2012 (77 FR 14036). We conducted one public meeting in Seattle on May 3, 2012, and five informational webinars for the public. Comments were due June 6, 2012. A summary of the comments and our written responses are appended to the Final EIS. We published a notice of availability of the Final EIS in the Federal Register on July 24, 2013 (78 FR 44588).

Alternatives

The action alternatives vary by the number and location of study areas, the method of barred owl removal (lethal, or a combination of lethal and nonlethal), and the type of experimental design (demography vs. occupancy). All action alternatives are based on a simple treatment and control study approach. Under this approach, study areas are divided into two comparable segments. Barred owls are removed from the treatment area but not from the control area. Spotted owl populations are measured using the same methodology on both areas, and the population measures (occupancy, survival, reproduction, and population trend) are compared between the control and treatment areas.

The removal of barred owls under the experiment would occur over a period of 3 to 10 years, depending on the alternative. The action alternatives include from 1 to 11 study areas, including from 0.31 to 6.55 percent of the northern spotted owl's habitat. A brief description of each alternative follows.

No-Action Alternative

Under the No-action Alternative, the Service would not conduct experimental removal of barred owls, thus not implementing one of the recovery actions set forth in the Recovery Plan (USFWS 2001, p. III-65). Data that would inform future barred owl management strategies would not be gathered.

Preferred Alternative

The Preferred Alternative is based on a combination of the features of Alternatives 2 and 3. The Preferred Alternative consists of a demography study located within four study areas. These study areas include existing spotted owl demography study areas where long-term monitoring of northern spotted owl populations has occurred (Lint et al. 1999, p. 17; Lint 2005, p. 7) and areas with comparable levels of spotted owl data. A combination of lethal and nonlethal removal methods would be used.

Alternative 1

Alternative 1 consists of a demography study in a single study area with existing pre-treatment spotted owl demography data. The study area would be located within one of the nine existing spotted owl demography study areas where long-term monitoring of northern spotted owl populations has occurred (Lint et al. 1999, p. 17; Lint 2005, p. 7). Only lethal removal methods would be used in this alternative.

Alternative 2

Alternative 2 consists of a demography study in three study areas, which would be located within existing spotted owl demography study areas and distributed across the range of the northern spotted owl. A combination of lethal and nonlethal removal methods would be used.

Alternative 3

Alternative 3 consists of a demography study in two study areas. Barred owl removal would occur outside of existing spotted owl demography study areas, but within areas that have adequate data to conduct pre-removal demography analyses. A combination of lethal and nonlethal removal methods would be used.

Alternative 4

Alternative 4 includes two subalternatives, 4a and 4b. Each subalternative consists of a demography study in two study areas outside existing spotted owl demography study areas. Each subalternative uses a combination of lethal and nonlethal removal methods. Subalternatives 4a and 4b differ in that 4a delays barred owl removal to collect pre-treatment data for comparison with treatment data, whereas 4b starts removal immediately and foregoes pre-treatment data collection.

Alternative 5

Alternative 5 consists of an occupancy study approach in three study areas. Barred owl removal would occur on areas outside of existing spotted owl demography study areas. Only lethal removal methods would be applied in this alternative.

Alternative 6

Alternative 6 includes two subalternatives, 6a and 6b. Each subalternative consists of an occupancy study in three study areas. Barred owl removal would occur on areas outside of existing spotted owl demography study areas. Each subalternative uses a combination of lethal and nonlethal removal methods. Subalternatives 6a and 6b differ in that 6a delays removal to collect pre-treatment data for comparison with treatment data, whereas 6b starts removal immediately and foregoes pre-treatment data collection.

Alternative 7

Alternative 7 consists of a combination of demography and occupancy analyses across 11 study areas, some of which have current data. Three existing spotted owl demographic study areas would be included within these study areas. A combination of lethal and nonlethal removal methods would be used.

Selected Alternative

We selected the Preferred Alternative developed following public review of the Draft EIS. The Preferred Alternative consists of a demography study in four study areas. Barred owl removal would occur on the Cle Elum Study Area in Washington and the Hoopa (Willow Creek) Study Area in California from Alternative 2, the Union/Myrtle (Klamath) Study Area in southern Oregon from Alternative 3, and one half of the combined Oregon Coast Ranges and Veneta Study Areas in northern Oregon. This last study area is a combination of study areas from Alternative 2 and 3. A combination of lethal and non-lethal removal methods would be used.

Decision Rationale

Our decision is to adopt the Preferred Alternative as described in the Final EIS for experimental removal of barred owls to benefit threatened northern spotted owls. We provide a brief summary of our decision below; for the full basis of our decision, please see the Final EIS. We choose to implement an alternative with elements that would provide for a strong, scientifically credible experiment with a high power to detect the effect of the barred owl removal on spotted owl populations, and that would provide results applicable across the range of the northern spotted owl in a timely manner.

To provide for high scientific credibility and power to detect any effect of the experimental removal of barred owls on spotted owl populations, we selected a demography study approach utilizing study areas with preexisting data on spotted owl populations and trends. The use of a demography study approach and the long history of spotted owl population data on these study areas provides for a very robust experiment.

To ensure the results are applicable across the range of the northern spotted owl, we selected four study areas distributed in Washington, Oregon, and California. This includes study areas in Washington with a long history of barred owl presence, high barred owl density, and low spotted owl site occupancy. Oregon study areas have a shorter history of high barred owl populations and greater spotted owl site occupancy. The California study area is the most recently invaded, has lower barred owl densities, and higher spotted owl site occupancy. Thus, the selected alternative will provide information on the efficacy of the removal in all types of barred owl population condition.

The combination of the number of study areas and the available pre-treatment data provides for a timely result, with the study taking an estimated 4 years of removal to reach significant results.

The use of a combination of lethal and non-lethal removal methods allows us to reduce the number of barred owl that would be killed under this study. To the extent that we are able to find organizations with the appropriate permits, adequate facilities to provide a high quality of care for the life of the bird, and an interest in having barred owls for educational purposes, we would capture birds to fill the opportunities. Our initial overtures to zoos and zoological parks resulted in interest in placing five individual barred owls. We will continue to look for opportunities to place barred owls, but given the expense, difficulty, and type of facility needed, we do not anticipate being able to place a large number of barred owls.

National Environmental Policy Act Compliance

We provide this notice under the National Environmental Policy Act of 1969, as amended (42 U.S.C. 4321 et seq.), and its implementing regulations in the Code of Federal Regulations (CFR) at 40 CFR 1506.6. We also publish this notice under authority of the Migratory Bird Treaty Act (16 U.S.C. 703-712) and its specific implementing regulations at 50 CFR 10.13 and 50 CFR 21.23.

Dated: September 10, 2013.
Robyn Thorson,
Regional Director, Pacific Region, U.S. Fish and Wildlife Service, Portland, Oregon.

[FR Doc. 2013-22556 Filed 9-16-13; 8:45 am]

BILLING CODE 4310-55-P